DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from November 2 to November 6, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: January 20, 2010.
J. Paul Loether,
Chief, National Register of Historic Places/National Historic Landmarks Program.

KEY: State, County, Property Name, Address/Boundary, City, Vicinity, Reference Number, Action, Date, Multiple Name

ARKANSAS

Clay County

Piggott Commercial Historic District, Roughly bounded on the N. by W. Cherry on the South by W. Court, on the E. by S. Throgmorton and the W. by Clay, Piggott, 09000867, LISTED, 11/04/09

Faulkner County

Oak Grove Cemetery Historic Section, E. Bruce St. approx. .3 mi. E. of Harkrider St., Conway, 09000868, LISTED, 11/04/09

Garland County

Joers, Peter Dierks, House, 2111 Park Ave., Hot Springs, 09000773, LISTED, 11/04/09

COLORADO

Las Animas County

McCormick House, 1919 Pinon St., Trinidad, 09000869, LISTED, 11/04/09

CONNECTICUT

Middlesex County

Xi Chapter, Psi Upsilon Fraternity, 242 High St., Middletown, 09000870, LISTED, 11/04/09

ILLINOIS

Ogle County

Indian Statue, Lowden Memorial State Park, 1411 N. River Rd., Oregon, 09000871, LISTED, 11/05/09

Piatt County

Monticello Courthouse Square Historic District, Roughly bounded by Market, RR tracks, N. Hamilton, Independence & Marion Sts., Monticello, 08000400, LISTED, 11/05/09

KANSAS

Dickinson County

Garfield Elementary School, 300 NW 7th St., Abilene, 09000874, LISTED, 11/04/09 (Public Schools of Kansas MPS)

Ford County

Dodge City Downtown Historic District, Roughly bounded by Front St. on the S., 3rd Ave. on the W., Vine St. on the N., and Central Ave. on the E., Dodge City, 09000875, LISTED, 11/04/09

Gray County

Gray County Courthouse (Old), 117 S. Main, Cimarron, 09000873, LISTED, 11/04/09

Reno County

Norris, G.W., House, 301 E. 12th Ave., Hutchinson, 09000876, LISTED, 11/04/09

Sedgwick County

Penley House, 3400 Penley Dr., Wichita, 09000877, LISTED, 11/04/09 (Residential Resources of Wichita, Sedgwick County, Kansas 1870-1957)

Sedgwick County

Powell House, 330 N. Crestway, Wichita, 09000676, LISTED, 11/04/09 (Residential Resources of Wichita, Sedgwick County, Kansas 1870-1957)

Wabaunsee County

Alma Downtown Historic District, Missouri St., 2nd to 5th, Alma, 09000354, LISTED, 11/06/09

MAINE

Cumberland County

BAGHEERA (schooner), Maine State Pier, Commercial St., Portland, 09000878, LISTED, 11/04/09

York County

Cape Arundel Golf Club, 19 River Rd., Kennebunkport, 09000879, LISTED, 11/04/09

York County

Sanford Mills Historic District, Bounded by Washington St., Pioneer Ave., Emery St., and Weaver Dr., Sanford, 09000880, LISTED, 11/04/09

MASSACHUSETTS

Hampden County

Calhoun, Apartments, The, 1391-1399 Dwight St. & 85 Jefferson Ave., Springfield, 09000881, LISTED, 11/05/09

Hampden County

Verona, Apartments, The, 1245-1255 Dwight St. & 6-10 Allendale St., Springfield, 09000882, LISTED, 11/05/09

MISSISSIPPI

Carroll County

Vaiden High School, 504 Mulberry St., Vaiden, 09000883, LISTED, 11/05/09

Clarke County

McNair, Dr., House, 116 E. Church St., Quitman, 94000500, LISTED, 11/04/09 (Clarke County MPS)

Hinds County

Wiener House at 228 Ridge Drive, 228 Ridge Dr., Jackson, 09000884, LISTED, 11/02/09

Lincoln County

Alexander Teen Center, 456 Rogers St., Brookhaven, 09000885, LISTED, 11/03/09

Warren County

Glenwood-Vicklan Historic District, Including Vicklan St., Glenwood Cir., Edna Dr., and Chambers St. (E. of the Bayou), Vicksburg, 09000886, LISTED, 11/03/09 (Vicksburg MPS)

MISSOURI

Buchanan County

Central Police Station, 701 Messanie, St. Joseph, 09000887, LISTED, 11/05/09

St. Louis Independent City

National Candy Company Factory, 4230 Gravois Ave., St. Louis, 09000889, LISTED, 11/05/09

St. Louis Independent City

Our Lady of Perpetual Help Parish Hall, School, Convent, and Rectory, 5217 N. 21st. (Parish Hall), 2017 Linton Ave., (School & Convent), and 2011 Linton Ave. (Rectory), St. Louis, 09000890, LISTED, 11/05/09

OREGON

Lake County

Shirk, David L., Ranch, Guano Valley, Sec. 35, Township 38 S., Range 27 E., Willamette Meridian, Adel vicinity, 09000891, LISTED, 11/04/09

SOUTH DAKOTA

Fall River County

State Soldiers Home Barn, 2500 Minnekahta Ave., Hot Springs, 09000446, LISTED, 11/05/09

VERMONT

Rutland County

Bridge 4, Vermont Rt. 31, Poultney, 09000892, LISTED, 11/05/09 (Metal Truss, Masonry, and Concrete Bridges in Vermont MPS)

WISCONSIN

Ozaukee County

Port Washington Fire Engine House, 102 E. Pier St., Port Washington, 09000894, LISTED, 11/05/09

[FR Doc. 2010-1601 Filed1-26-10; 8:45 am]

BILLING CODE P